NUCLEAR REGULATORY COMMISSION

[Docket No. 40-3400, License No. P-4001 (Expired), R-230 (Expired)]

Salmon River Uranium Development Site; Notice of Completion of Remediation at Salmon River Uranium Development Site, Near North Fork, ID

ACTION: Notice of completion of remediation at the Salmon River Uranium Development Site, near North Fork, Idaho.

SUMMARY: The Nuclear Regulatory Commission (NRC) is noticing the completion of remediation activities at the Salmon River Uranium Development Site, near North Fork, Idaho.

Background: The U.S. Atomic Energy Commission (AEC) issued Source Material License P-4001 to Salmon River Uranium Development, Inc. (SRUD) on October 10, 1958. This license authorized SRUD to possess and transfer source material. On March 30, 1959, the AEC issued Source Material License No. R-0230 to SRUD. This license authorized the receipt and possession of source material for processing. Source Material License No. R-0230 expired on June 30, 1959 and Source Material License No. P-4001 expired on October 31, 1959.

Both uranium and thorium ores were processed at the site. Processing of source material occurred at two separate times, the late-1950s and the late-1970s. Processing operations were conducted in the late-1950s in accordance with the AEC licenses. During the late-1970s, pilot plant operations were conducted at the site to determine the viability of experimental ore processing techniques.

The SRUD site was placed on the NRC's Site Decommissioning Management Plan (SDMP) list in 1994. In May 2001, NRC staff visited the SRUD site and identified thorium contamination in the form of partially processed ore. In 2003, the NRC and the Oak Ridge Institute for Science and Education conducted scoping surveys of the site. During 2004 and 2005, NRC staff worked with the Idaho Department of Environmental Quality and the U.S. Environmental Protection Agency (EPA) to establish an approach for remediation of the site.

EPA agreed to perform remediation activities at the SRUD site in accordance with the Comprehensive Environmental Response, Compensation and Liability Act, as amended, 42 U.S.C. 9601(14) and (33). A Removal Action Work Plan (ADAMS No. ML072880344), which specified its step-by-step process for conducting cleanup activities at the SRUD site, was developed by the EPA and approved by the NRC.

The EPA's Removal Action Work Plan included the removal and disposal of hazardous chemical and radiological contaminants that may pose a threat to workers, public health and welfare, and the environment. EPA's radiological release criteria was based on a recreational use scenario for the site.

Implementation of the EPA's work plan began on October 23, 2007, and was completed on June 3, 2008. Contaminated waste material above the unrestricted release criteria was shipped to licensed disposal sites. EPA's work activities summary report is documented in the Final Removal Action Report, dated September 12, 2008 (ADAMS No. ML082590288).

The NRC staff conducted confirmatory radiological surveys of site structures and land areas and collected soil samples for analysis by the NRC's independent laboratory contractor to verify results obtained by EPA. Confirmatory surveys consisted of surface scans for alpha, beta and gamma radiation, direct measurements for total alpha and beta activity, collection and analysis of soil samples for thorium and uranium, and collection of smear samples for determining removable radioactivity levels. The survey information and sample results are documented in Inspection Reports 040-03400/07-01 (ADAMS No. ML080320117) and 040-03400/08-01 (ADAMS No. ML082180190). The NRC performed an independent dose assessment using the recreational scenario employed by the EPA to evaluate the EPA's cleanup criteria and evaluate the condition of the SRUD site.

Based on the considerations discussed above, the Commission has concluded that: (1) Radioactive material above release limits has been properly disposed; (2) reasonable effort has been made to eliminate residual radioactive contamination; and (3) FSSs and associated documentation demonstrate that the site is suitable for unrestricted release in accordance with the criteria in 10 CFR Part 20, Subpart E. Therefore, the Salmon River site near North Fork, Idaho is suitable for unrestricted use.

FOR FURTHER INFORMATION CONTACT: Additional relevant information is available for public inspection at the Commission's Public Document Room (PDR), located at One White Flint North, Public File Area O1 F21, 11555 Rockville Pike (first floor), Rockville, Maryland. Publicly available records will be accessible electronically from the Agency-wide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737 or by e-mail to pdr@nrc.gov.

Dated at Rockville, Maryland this 19th day of September 2008.
For the Nuclear Regulatory Commission.
Keith I. McConnell,
Deputy Director, Decommissioning and Uranium Recovery Licensing Directorate, Division of Waste Management and Environmental Protection, Office of Federal and State Materials and Environmental Management Programs.

[FR Doc. E8-22908 Filed 9-29-08; 8:45 am]

BILLING CODE 7590-01-P